DEPARTMENT OF TRANSPORTATION

Federal Aviation Administration

14 CFR Part 71

[Docket No. FAA-2006-26111; Airspace Docket No. 06-AAL-32]

RIN 2120-AA66

Amendment to Jet Route and Colored Federal Airways; Alaska

AGENCY: Federal Aviation Administration (FAA), DOT.

ACTION: Final rule.

SUMMARY: This action amends Jet Route 510 (J-510), and Colored Federal Airways Amber 2 (A-2), Amber 15 (A-15), and Green 8 (G-8), Alaska. Specifically, the FAA is re-designating J-510 as J-512 because of duplication with a Canadian Jet Route number, causing problems with the Flight Data processors during route validation at the Anchorage Air Route Traffic Control Center. Additionally, portions of A-2, and A-15, and G-8 are discontinuous between fixes, causing flight processing software problems, and will be re-designated.

DATES: Effective Date: 0901 UTC, January 18, 2007. The Director of the Federal Register approves this incorporation by reference action under 1 CFR part 51, subject to the annual revision of FAA Order 7400.9 and publication of conforming amendments.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

Background

Because of limitations in the Oceans 21 Advanced Technologies and Oceanic Procedures (ATOP) system scheduled for operation at Anchorage Center, several route numbers were identified that were either duplicated in the National Airspace System or discontinuous between fixes. This rule is necessary to smooth the transition to ATOP at the Anchorage Center.

Alaskan Jet Routes and Colored Federal airways are published in paragraph 2004 and 6009 of FAA Order 7400.9P dated September 1, 2006, and effective September 15, 2006, which is incorporated by reference in 14 CFR 71.1. The Federal Airways listed in this document will be published subsequently in the Order.

The Rule

This action amends Title 14 Code of Federal Regulations (14 CFR) part 71 by re-designating J-510 as J-512 because the J-510 designation is duplicated by a Canadian Jet Route and causes problems with the Flight Data processors during route validation at Anchorage Air Route Traffic Control Center. A-2, and A-15 are discontinuous between the Delta Junction Non-directional Beacon (NDB) and the Chena NDB, which also causing flight processing software problems. They will be re-designated as A-9 and A-17 respectively. G-8 is discontinuous between Kachemak NDB and Campell Lake NDB and will be re-designated as G-11. The route number change will coincide with the effective date of this rulemaking action.

Accordingly, this action merely involves editorial change in the route number of the legal description of a colored Federal airway, and does not involve a change in the dimensions or operating requirements of that airway, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, “Environmental Impacts: Polices and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9P, Airspace Designations and Reporting Points, dated September 1, 2006, and effective September 15, 2006, is amended as follows:

Paragraph 2004 Jet Routes.

* * * * *

J-510 [Remove]

* * * * *

J-512 [New]

From; Emmonak, AK; Unalakleet, AK; to Galena, AK

* * * * *

Paragraph 6009 (a) Green Federal airways.

* * * * *

G-8 [Revised]

From Shemya, AK, NDB, 20 AGL; Mount Moffet, AK, NDB, 20 AGL; Dutch Harbor, AK, NDB, 20 AGL; INT Dutch Harbor NDB 041° and Elfee, AK, NDB 253° bearings, 20 AGL; Elfee, AK, NDB, 20 AGL; Saldo, AK, NDB; INT Saldo, AK, NDB 054° and Kachemak, AK, NDB 269° bearings; to Kachemak NDB, AK.

* * * * *

G-11 [New]

From Campbell Lake, AK, NDB; INT Campbell Lake, AK, NDB 031° and Glenallen, AK, NDB 255° bearings; Glenallen, AK, NDB; INT Glenallen, AK, 052° and Nabesna, AK, NDB 252° bearings; to Nabesna, AK, NDB.

* * * * *

Paragraph 6009 (c) Amber Federal airways.

* * * * *

A-2 [Revised]

From Beaver Creek, YT, Canada, NDB; Nebesna, AK, NDB; to Delta Junction, AK, NDB. The airspace within Canada is excluded.

* * * * *

A-9 [New]

From Browerville, AK, NDB.; Evansville, AK, NDB; to Chena, AK, NDB

* * * * *

A-15 [Revised]

From Ethelda, BC, Canada, NDB; Nichols, AK, NDB; Sumner Strait, AK, NDB; Coghlan Island, AK, NDB; Haines, AK, NDB; Burwash, YT, Canada, NDB; Beaver Creek, YT, Canada, NDB; Nabesna, AK, NDB; to Delta Junction, AK, NDB. The airspace within Canada is excluded.

* * * * *

A-17 [New]

From Chena, AK, NDB; Chandalar Lake, AK, NDB; to Put River, AK, NDB.

* * * * *

Issued in Washington, DC, on November 16, 2006.
Ellen Crum,
Acting Manager, Airspace and Rules.

[FR Doc. E6-19834 Filed 11-24-06; 8:45 am]

BILLING CODE 4910-13-P